DEPARTMENT OF COMMERCE

Bureau of Industry and Security

15 CFR Part 774

The Commerce Control List

CFR Correction

In Title 15 of the Code of Federal Regulations, Parts 300-799, revised as of January 1, 2011, on page 684, in Supplement No. 1 to Part 774, in ECCN 1C118, the “Items” paragraph is revised to read as follows:

Supplement No. 1 to PART 774—THE COMMERCE CONTROL LIST

* * * * *

1C118 Titanium-stabilized duplex stainless steel (Ti-DSS), having all of the following characteristics (see List of Items Controlled).

* * * * *

Items:

a. Having all of the following characteristics:

a.1. Containing 17.0-23.0 weight percent chromium and 4.5-7.0 weight percent nickel;

a.2. Having a titanium content of greater than 0.10 weight percent; and

a.3. A ferritic-austenitic microstructure (also referred to as a two-phase microstructure) of which at least 10 percent is austenite by volume (according to ASTM E-1181-87 or national equivalents), and

b. Having any of the following forms:

b.1. Ingots or bars having a size of 100 mm or more in each dimension;

b.2. Sheets having a width of 600 mm or more and a thickness of 3 mm or less; or

b.3. Tubes having an outer diameter of 600 mm or more and a wall thickness of 3 mm or less.

* * * * *

[FR Doc. 2011-27751 Filed 10-25-11; 8:45 am]

BILLING CODE 1505-01-D